FEDERAL COMMUNICATIONS COMMISSION

Deletion of Agenda Item and Consent Agenda From October 17, 2014 Open Meeting

October 16, 2014.

The following item and the consent agenda have been deleted from the list of items scheduled for consideration at the Friday, October 17, 2014, Open Meeting and previously listed in the Commission's Notice of October 10, 2014. This item was adopted by the Commission.

Item number | Bureau | Subject
3 | OFFICE OF ENGINEERING & TECHNOLOGY | TITLE: Expanding the Economic and Innovation Opportunities of Spectrum Through Incentive Auctions (GN Docket No. 12-268); Office of Engineering and Technology Releases and Seeks Comment on Updated OET-69 Software (ET Docket No. 13-26) and Office of Engineering and Technology Seeks to Supplement the Incentive Auction Proceeding Record Regarding Potential Interference Between Broadcast Television and Wireless Services (ET Docket No. 14-14).
|  | SUMMARY: The Commission will consider a Second Report and Order and Further Notice of Proposed Rulemaking to address aggregate broadcaster-to-broadcaster interference and the methodology for predicting interference between broadcast and wireless operations in the same or adjacent channels in nearby markets during and following the Incentive Auction.

* * * * *

CONSENT AGENDA

Item number | Bureau | Subject
1 | MEDIA | TITLE: Ernesto Bustos, Licensee of Station WTBL-CD, Lenoir, North Carolina.
|  | SUMMARY: The Commission will consider a Memorandum Opinion and Order concerning an Application for Review filed by Ernesto Bustos seeking review of a Forfeiture Order issued by the Media Bureau's Video Division.
2 | MEDIA | TITLE: KM LPTV of Chicago-13, LLC, Licensee of Station WOCK-CD, Chicago, Illinois.
|  | SUMMARY: The Commission will consider a Memorandum Opinion and Order concerning an Application for Review filed by KM LPTV Chicago-13, LLC seeking review of a Forfeiture Order issued by the Media Bureau's Video Division.
3 | MEDIA | TITLE: KM LPTV of Milwaukee, LLC, Licensee of Station WMKE-CA, Milwaukee, Wisconsin.
|  | SUMMARY: The Commission will consider a Memorandum Opinion and Order concerning an Application for Review filed by KM LPTV of Milwaukee, LLC seeking review of a Forfeiture Order issued by the Media Bureau's Video Division.
4 | MEDIA | TITLE: Holy Family Oratory of St. Philip Neri, Application for Construction Permit for a New Noncommercial Educational Station at Bedford, Michigan.
|  | SUMMARY: The Commission will consider a Memorandum Opinion and Order concerning an Application for Review filed by First Pentecostal Church of God in Christ seeking review of a decision by the Media Bureau.
5 | MEDIA | TITLE: Amendment of Section 73.202(b), Table of Allotments, FM Broadcast Stations (Corona de Tucson, Sierra Vista, Tanque Verde, and Vail, Arizona; Animas, Lorsdburg, and Virden, New Mexico).
|  | SUMMARY: The Commission will consider a Memorandum Opinion and Order concerning an Application for Review filed by CCR-Sierra Vista IV, LLC seeking review of a Media Bureau reallotment decision.
6 | MEDIA | TITLE: Clifford Brown Jazz Foundation, Application for a New LPFM Station at Berkeley, California.
|  | SUMMARY: The Commission will consider a Memorandum Opinion and Order concerning an Application for Review filed by Clifford Brown Jazz Foundation seeking review of an application dismissal by the Media Bureau.
7 | MEDIA | TITLE: Timothy C. Cutforth, Application for License to Cover Construction of DKJJL(AM), Pine Bluffs, Wyoming, Request for Special Temporary Authority.
|  | SUMMARY: The Commission will consider a Memorandum Opinion and Order concerning an Application for Review filed by Timothy C. Cutforth seeking review of an application dismissal by the Media Bureau.
8 | MEDIA | TITLE: MSG Radio, Inc., Assignor and WIAC FM, Inc., Assignee, Application for Assignment of License for WTOK-FM, San Juan, Puerto Rico.
|  | SUMMARY: The Commission will consider a Memorandum Opinion and Order concerning an Application for Review filed by RAAD Broadcasting Corporation seeking review of an assignment application grant by the Media Bureau.
9 | MEDIA | TITLE: Christian Music Network, Application for a New NCE FM Station at Gloucester, Massachusetts.
|  | SUMMARY: The Commission will consider a Memorandum Opinion and Order concerning an Application for Review filed by Christian Music Network seeking review of the Media Bureau's dismissal of its application for a new noncommercial educational FM station at Gloucester, Massachusetts.
10 | MEDIA | TITLE: Church Planters of America, Permit to Modify the Licensed Facilities of Station WGHW(FM), Lockwoods Folly Town, NC and Craven Community College, Permit to Modify the Licensed Facilities of WZNB(FM), New Bern, North Carolina.
|  | SUMMARY: The Commission will consider a Memorandum Opinion and Order concerning an Application for Review filed by Craven Community College seeking review of a Media Bureau decision.
11 | MEDIA | TITLE: Dallas Ingemunson, Assignor and Jennifer Beckman, Asignee, Application for Assignment of Permit for New (AM) Broadcast Station at Casa Grande, Arizona.
|  | SUMMARY: The Commission will consider a Memorandum Opinion and Order concerning an Application for Review filed by Jennifer Beckman seeking review of a Media Bureau assignment application conditional grant.
12 | MEDIA | TITLE: Susquehanna Radio Corp. and Whitley Media, LLC, Application for Consent to Assignment of License and Cancellation of License for DKTDK(FM), Sanger, Texas.
|  | SUMMARY: The Commission will consider a Memorandum Opinion and Order concerning an Application for Review jointly filed by Whitley Media, LLC and North Texas Radio Group, LP seeking review of a Media Bureau assignment application dismissal.
13 | MEDIA | TITLE: Word of God Fellowship, Inc., Cancellation of the License for Television Station DKCBU, Price, Utah.
|  | SUMMARY: The Commission will consider a Memorandum Opinion and Order concerning an Application for Review filed by Word of God Fellowship, Inc. seeking review of a Media Bureau license cancellation.

Federal Communications Commission.
Marlene H. Dortch,
Secretary.

[FR Doc. 2014-25553 Filed 10-27-14; 8:45 am]

BILLING CODE 6712-01-P